DEPARTMENT OF ENERGY

Federal Energy Regulatory Commission

[Project No. 1984-265]

Wisconsin River Power Company; Notice of Application Accepted for Filing and Soliciting Comments, Motions To Intervene, and Protests

Take notice that the following hydroelectric application has been filed with the Commission and is available for public inspection:

a. Type of Application: Non-Capacity Amendment of License.

b. Project No.: 1984-265.

c. Date Filed: December 3, 2021, as supplemented on December 12, 2022.

d. Applicant: Wisconsin River Power Company.

e. Name of Project: Petenwell and Castle Rock Hydroelectric Project.

f. Location: The project is located on the Wisconsin River in Juneau, Adams, and Wood Counties, Wisconsin.

g. Filed Pursuant to: Federal Power Act 16 U.S.C. 791a-825r.

h. Applicant Contact: Mr. Todd Jastremski, Asset Manager Hydro Operations, 800 Industrial Park Drive, Iron Mountain, MI 49801; (906) 779-4099, todd.jastremski@we-energies.com.

i. FERC Contact: Christopher Chaney, (202) 502-6778, christopher.chaney@ferc.gov.

j. Deadline for filing comments, motions to intervene, and protests is 30 days from the issuance date of this notice by the Commission.

The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, MD 20852. The first page of any filing should include the docket number P-1984-265. Comments emailed to Commission staff are not considered part of the Commission record.

The Commission's Rules of Practice and Procedure require all intervenors filing documents with the Commission to serve a copy of that document on each person whose name appears on the official service list for the project. Further, if an intervenor files comments or documents with the Commission relating to the merits of an issue that may affect the responsibilities of a particular resource agency, it must also serve a copy of the document on that resource agency.

k. Description of Request: Wisconsin River Power Company (licensee) proposes to modify the requirements of Article 401 of the project license, and revise the approved Operations Compliance Monitoring Plan (OCMP) consistent with the proposed modifications to Article 401. In the pertinent part, Article 401 requires the licensee to limit any reduction in discharge from the Castle Rock Development to a down-ramping rate not to exceed 1-inch per hour as measured 0.7 miles downstream of Castle Rock dam. Under the licensee's proposal, the down-ramping rate would increase to 3.5-inches per hour as measured 0.7 miles downstream of Castle Rock dam. The proposed down-ramping requirement would only apply to reductions in flow from the Castle Rock powerhouse and only when inflows to the Petenwell impoundment are greater than 3,500 cubic feet per second. The licensee proposes revisions to the OCMP, which would provide further details on the down-ramping, minimum flow, and reservoir elevation requirements of the license.

l. Locations of the Application: This filing may also be viewed on the Commission's website at http://www.ferc.gov using the “eLibrary” link. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. Agencies may obtain copies of the application directly from the applicant.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

o. Filing and Service of Documents: Any filing must (1) bear in all capital letters the title “COMMENTS”, “PROTEST”, or “MOTION TO INTERVENE” as applicable; (2) set forth in the heading the name of the applicant and the project number of the application to which the filing responds; (3) furnish the name, address, and telephone number of the person commenting, protesting, or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

Dated: March 31, 2023.
Kimberly D. Bose,
Secretary.

[FR Doc. 2023-07206 Filed 4-5-23; 8:45 am]

BILLING CODE 6717-01-P